DEPARTMENT OF HEALTH AND HUMAN SERVICES

Health Resources and Services Administration

National Advisory Council on Nurse Education and Practice; Notice of Meeting

In accordance with section 10(a)(2) of the Federal Advisory Committee Act (Pub. L. 92-463), notice is hereby given of the following meeting:

Name: National Advisory Council on Nurse Education and Practice (NACNEP).

Dates and Times: January 12 & 13, 2016, 9:30 a.m.-5:00 p.m. EST.

Place: This meeting will be via Webinar Format, U.S. Department of Health and Human Services, Health Resources and Services Administration, 5600 Fishers Lane, Rockville, Maryland 20857.

Status: This Advisory Council meeting will be open to the public.

Purpose: The purpose of the 132nd NACNEP meeting is to (1) review the current population health landscape, (2) define the Registered Nurse's (RN) role in population health, and (3) identify how nurses can best contribute to and lead population health initiatives. NACNEP will discuss current definitions of population health and review existing population health models. This meeting will form the basis for NACNEP's mandated 14th Annual Report to the Secretary of the U.S. Department of Health and Human Services and Congress.

Agenda: A final agenda will be posted on the NACNEP Web site 3 days prior to the meeting. Agenda items are subject to change as priorities dictate.

Supplementary Information: Further information regarding NACNEP, including the roster of members, reports to Congress, and minutes from previous meetings, is available at the NACNEP Web site. Members of the public and interested parties may request to participate in the meeting by contacting Staff Assistant, Jeanne Brown. Access to the meeting will be granted on a first-come, first-served basis and space is limited. Public participants may submit written statements in advance of the scheduled meeting. If you would like to provide oral public comment during the meeting you will need to register with Kristen Hansen, Acting Designated Federal Official (DFO). Public comment will be limited to 3 minutes per speaker and is tentatively scheduled for after lunch on the first day of the meeting. Statements and comments can be addressed to Kristen Hansen. Please send by email to: nacnep@hrsa.gov. Individuals who plan to attend and need special assistance, such as sign language interpretation or other reasonable accommodations, should notify the contact person listed above at least 10 days prior to the meeting.

Please be advised that committee members are given copies of all written statements submitted by the public prior to the meeting. Any further public participation will be at the discretion of the Chair, with approval of the DFO in attendance. Registration through the designated contact for the public comment session is required. Any member of the public who wishes to have printed materials distributed to NACNEP should submit materials to the point of contact no later than 12:00 noon EST on January 4, 2016.

For additional information regarding NACNEP, please contact Jeanne Brown, Staff Assistant, National Advisory Council on Nurse Education and Practice, 5600 Fishers Lane, Rockville, Maryland 20857. The telephone number is: (301) 443-5688. The email is jbrown@hrsa.gov.

Jackie Painter,
Director, Division of the Executive Secretariat.

[FR Doc. 2015-32172 Filed 12-22-15; 8:45 am]

BILLING CODE 4165-15-P